DEPARTMENT OF TRANSPORTATION

National Highway Traffic Safety Administration

[Docket No. NHTSA-2002-11778; Notice 1]

Bridgestone/Firestone North American Tire, LLC, Receipt of Application for Decision of Inconsequential Noncompliance

Bridgestone/Firestone North American Tire, LLC (Firestone), a Delaware Limited Liability Company, has determined that approximately 754 30x9.50 R15 LT Widetrack Baja A/T tires produced in the LaVergne, Tennessee plant are not in full compliance with 49 CFR 571.119, Federal Motor Vehicle Safety Standard (FMVSS) No. 119, “New pneumatic tires for vehicles other than passenger cars, “and has filed an appropriate report pursuant to 49 CFR part 573, “Defect and Noncompliance Reports.” Firestone has also applied to be exempted from the notification and remedy requirements of 49 U.S.C. chapter 301—“Motor Vehicle Safety” on the basis that the noncompliance is inconsequential to motor vehicle safety.

This notice of receipt of an application is published under 49 U.S.C. 30118 and 30120 and does not represent any agency decision or other exercise of judgment concerning the merits of the application.

According to the application, “During weeks 38, 39 and 40 of the year 2001, the LaVergne, Tennessee plant of Firestone produced a number of tires that fail to comply with the tire marking requirements of FMVSS 119 S6.5(d).

The actual markings on the noncompliant tires are:

Max Load 350 Kg at 1985 kPa cold

Max Load 900 Lbs at 50 PSI cold

The correct markings are:

Max Load 900 Kg at 350 kPa cold

Max Load 1985 Lbs at 50 PSI cold

Firestone submits that the failure of the tires to comply with FMVSS 119 S6.5(d) should be deemed inconsequential to motor vehicle safety for the following reasons:

(1) All of the affected 30x9.50R15LT Widetrack Baja A/T tires meet all of the remaining requirements of 49 CFR, part 119.

(2) The maximum load as stated on the tire in both English and Metric units is actually less than the actual maximum load for these tires. Therefore, it is not likely the tires would be placed in an unsafe, overload situation as a result of the marking noncompliance. In fact, if the consumer relies on the markings, the load will be significantly less than the tire is capable of carrying.

(3) While the inflation pressure is incorrect in Metric units, the English inflation units are correct. Since the English units are correct and English units are the common usage for inflation in North America, it is highly unlikely that the subject tires would be over inflated as a result of the marking noncompliance.

(4) The subject tires are correctly marked Load Range “C” and Load Index 104. By Tire and Rim Association's data, the Load Range “C” and Load Index 104 define maximum load of 1985 pounds and 900 Kgs at 50 psi and 350 kPa.

Interested persons are invited to submit written data, views, and arguments on the application described above. Comments should refer to the docket number and be submitted to: U.S. Department of Transportation, Docket Management, Room PL-401, 400 Seventh Street, SW., Washington, DC 20590. It is requested that two copies be submitted.

All comments received before the close of business on the closing date indicated below will be considered. The application and supporting materials, and all comments received after the closing date, will also be filed and will be considered to the extent possible. When the application is granted or denied, the notice will be published in the Federal Register pursuant to the authority indicated below.

Comment closing date: April 17, 2002.

(49 U.S.C. 30118, 30120; delegations of authority at 49 CFR 1.50 and 501.8)
Issued on: March 11, 2002.
Stephen R. Kratzke,
Acting Associate Administrator for Safety Performance Standards.

[FR Doc. 02-6356 Filed 3-8-02; 8:45 am]

BILLING CODE 4910-59-P